DEPARTMENT OF THE INTERIOR

Bureau of Land Management

[LLORE00000 L63500000.DO0000.LXSS021H0000.HAG11-XXXX]

Notice of Intent To Revise Resource Management Plans and an Associated Environmental Impact Statement for Six Western Oregon Districts of the Bureau of Land Management

AGENCY: Bureau of Land Management, Interior.

ACTION: Notice of intent.

SUMMARY: In compliance with the National Environmental Policy Act of 1969, as amended, and the Federal Land Policy and Management Act of 1976, as amended, the Bureau of Land Management (BLM) Oregon State Office, Portland, Oregon, intends to revise six Resource Management Plans (RMPs) with a single associated Environmental Impact Statement (EIS) for the Western Oregon Planning Area and by this notice is announcing the beginning of the scoping process to solicit public comments and identify issues. The Western Oregon Planning Area consists of the Coos Bay District, Eugene District, Medford District, Roseburg District, Salem District, and the Klamath Falls Resource Area of the Lakeview District. Although this document identifies the scale of planning as six RMPs with a single EIS, public input is being sought on whether a different approach to scale—such as by district, region, or type of forest—should be considered.

DATES: This notice initiates the public scoping process for the RMP and associated EIS. Comments on issues may be submitted in writing until June 7, 2012. The BLM has not yet scheduled public meetings for this plan revision. The date(s) and location(s) of any scoping meetings will be announced at least 15 days in advance through local media, newspapers, and the BLM Web site at: http://www.blm.gov/or/plans/. In order to be included in the Draft EIS, all comments must be received prior to the close of the 90-day scoping period or 30 days after the last public meeting, whichever is later. The BLM will provide additional opportunities for public participation and comment upon publication of the Draft EIS.

ADDRESSES: You may submit comments on issues and planning criteria related to the Western Oregon RMPs/EIS by any of the following methods:

• Web site: http://www.blm.gov/or/plans.

• Email: BLM_OR_Forestry_Plan@blm.gov.

• Fax: 503-808-6333.

• Mail: P.O. Box 2965, Portland, Oregon 97208.

Documents pertinent to this proposal may be examined at the Oregon State Office, Public Room, 333 SW. 1st Avenue, Portland, OR 97204.

FOR FURTHER INFORMATION CONTACT: And/or to have your name added to our mailing list, contact Michael Campbell, Western Oregon RMP Outreach Coordinator, telephone 503-808-6031; address P.O. Box 2965, Portland, Oregon 97208; email BLM_OR_Forestry_Plan@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM State Office, Portland, Oregon, intends to revise six RMPs with an associated EIS for the Western Oregon Planning Area, announces the beginning of the scoping process, and seeks public input on issues and planning criteria. The purpose of the public scoping process is to determine the scope of issues to be addressed by the environmental analysis, including alternatives, and the significant issues related to the planning process. The planning area for the RMPs includes approximately 2,550,000 acres of BLM-administered lands and 69,000 acres of split-estate, where the BLM only manages the Federal mineral estate.

The Federal Land Policy and Management Act of 1976 (FLPMA) requires the development, maintenance, and revision of land use plans. The vast majority of the BLM-administered lands in the planning area are Revested Oregon and California Railroad (O&C) lands, or Reconveyed Coos Bay Wagon Road (CBWR) lands, and are managed under the statutory authority of the Oregon and California Revested Railroad Lands Act of 1937 (O&C Act, Pub. L. 75-405) and FLPMA (43 U.S.C. 1701 et seq.). Preparation of the RMPs and EIS will conform to the above land management laws and will also comply with other Federal laws, including, but not limited to the Endangered Species Act (ESA), the Clean Water Act, and the National Environmental Policy Act. Congress, in 1866, established a land grant to promote the completion of the Oregon and California Railroad from Portland, Oregon, to San Francisco, California. In 1916, Congress revested, or brought back into Federal ownership, the title to approximately 2.2 million acres of land deeded to the Oregon and California Railroad after the company violated the terms of the land grant. Congress revested about 93,000 acres of Coos Bay Wagon Road lands to the United States due to similar circumstances in 1919. The O&C Act of 1937 placed management jurisdiction of these lands under the United States Department of the Interior.

In 1994, the Departments of the Interior and Agriculture (USDA) adopted the Northwest Forest Plan (NWFP) to provide coordinated management direction for the lands administered by the BLM and the USDA's Forest Service and to adopt complimentary approaches of other Federal agencies within the range of the northern spotted owl. The NWFP included a coordinated, comprehensive ecosystem management strategy, the purpose of which was to meet dual needs: The need for long-term health of forest habitat and the need for a steady supply of forest products.

The six western Oregon BLM districts completed RMPs in 1995 that incorporated the land use allocations and Standards and Guidelines from the NWFP. In 2008, the BLM completed RMP revisions for the six western Oregon districts. Pending litigation seeks vacatur of the 2008 RMPs. The BLM intends to revise its RMPs notwithstanding the pending litigation.

The U.S. Fish and Wildlife Service (FWS) issued a revised recovery plan for the northern spotted owl on June 28, 2011. The plan contains recommendations for retaining and restoring owl habitat in Federal, State and private forestland. The FWS anticipates revising its critical habitat designation for the northern spotted owl and issuing a proposed rule in February 2012.

The FWS completed a recovery plan for the marbled murrelet in 1997 and revised its critical habitat for the marbled murrelet in October 2011. On August 22, 2011, the National Oceanic and Atmospheric Administration (NOAA) Fisheries Service adopted a final ESA recovery plan for upper Willamette Chinook salmon and steelhead.

The revisions to the existing RMPs will determine how the BLM will actively manage BLM-administered lands in western Oregon to further recovery of threatened and endangered species, provide clean water, restore fire-adapted ecosystems, produce a sustained yield of timber products, and provide for recreation opportunities.

Through the public participation process, the BLM will work with interested parties to identify the most appropriate management direction for BLM-administered lands in western Oregon in accordance with the provisions of relevant laws and considering local, regional, and national interests. The first step in this process is formal public scoping which will help identify planning issues and provide an opportunity to receive public comment on the scope of planning, and proposed planning criteria.

Planning issues are disputes or controversies about existing and potential land and resource allocations, levels of resource use, production, and related management practices. Issues include resource use, development, and protection opportunities for consideration in the preparation of RMPs. These issues may stem from new information or changed circumstances, and the need to reassess the appropriate mix of allowable uses. In considering these issues, the BLM is seeking to explore how its discretion under the various laws that guide resource management will be exercised with regard to the intensity and frequency of forest management at a landscape scale to meet a sustainable supply of forest products, recovery of listed species, and watershed management on BLM-administered lands suitable for timber harvest. Planning issues will be addressed in the alternatives set forth in the RMP/EIS. The BLM has identified the following preliminary planning issues which may be refined as a result of future public participation opportunities, collaborative efforts, and comments received during scoping:

• Vegetation—How should BLM-administered lands be managed, both temporally and spatially, to provide a sustainable supply of wood and other forest products that contribute to the economic stability of communities?

• Habitat—How should the BLM-administered lands be managed to contribute to the recovery of threatened and endangered species and provide for other rare and little known late-successional associated species?

• Watershed management and water quality—How should BLM-administered lands be managed to contribute to restoring and maintaining the chemical physical and biological integrity of the Nation's waters, as well as to a safe drinking water supply?

• Wildland fire and fuels—How should BLM-administered lands be managed to reduce the risk of wildfires to communities and integrate fire back into the ecosystem?

• Economics and Community Support—How should BLM-administered-lands be managed to contribute to local economies?

• Off-highway vehicle management and public access—How should the BLM-administered lands be managed to meet the demand for off-highway vehicle use while protecting other resources and recreation uses? How should transportation networks to and across the BLM-administered lands be evaluated?

The BLM has also identified preliminary planning criteria to guide the development of the RMPs. These criteria may be modified or other criteria identified after the public scoping process. The public is invited to comment on the following preliminary planning criteria:

• Lands addressed in the RMP will be public lands (including split estate lands) administered by the BLM;

• The BLM will protect resources in accordance with FLPMA and other applicable laws and regulations;

• The BLM will examine options for the scope and scale of the plan revisions for the six western Oregon districts including, but not limited to a singular RMP, district-by-district RMPs, or wet versus dry forests RMPs;

• The BLM will consider and coordinate land use plan decisions to be consistent with existing plans and policies of local, state, Federal, and tribal agencies to the extent those plans and policies are consistent with the purposes, policies, and programs of Federal laws and regulations;

• The BLM will consider applicable recovery actions contained in the FWS and NOAA Fisheries Service recovery plans and will also consider critical habitat for threatened and endangered species;

• The BLM will consider how to manage BLM-administered lands that contain wilderness characteristics;

• Where existing planning decisions are still valid, those decisions may remain unchanged and incorporated into the new RMP;

• The plans will recognize valid existing rights;

• The BLM will consider withholding lands with important resource values and/or significant levels of investment from mineral leasing and withdrawing lands from mineral location

• Native American tribal consultations will be conducted in accordance with policy and tribal concerns will be given due consideration. The planning process will include the consideration of any impacts on Indian trust assets;

• Alternatives will be designed to meet the purpose and need for the plan, resolve planning issues, and comply with existing laws.

You may submit comments on issues and planning criteria in writing to the BLM at any public scoping meeting, or you may submit them to the BLM using one of the methods listed in the ADDRESSES section above. To be most helpful, you should submit comments by the close of the 90-day scoping period or within 30 days after the last public meeting, whichever is later. Before including your address, phone number, email address, or other personal identifying information in your comment, you should be aware that your entire comment—including your personal identifying information—may be made publicly available at any time. While you may ask us in your comment to withhold your personal identifying information from public review, we cannot guarantee that we will be able to do so. The minutes and list of attendees for each scoping meeting will be available to the public and open for 30 days after the meeting to any participant who wishes to clarify the views he or she expressed. The BLM will evaluate identified issues to be addressed in the plan and will place them into one of three categories:

1. Issues to be resolved in the plan;

2. Issues to be resolved through policy or administrative action; or

3. Issues beyond the scope of this plan.

The BLM will provide an explanation in the Draft RMP/Draft EIS as to the disposition of proposed issues. The public is also encouraged to help identify any management questions and concerns that should be addressed in the plan. The BLM will work collaboratively with interested parties to identify the management decisions that are best suited to local, regional, and national needs and concerns.

The BLM will use an interdisciplinary approach to develop the plan in order to consider the variety of resource issues and concerns identified. Specialists with expertise in the following disciplines will be involved in the planning process: Timber, wildlife and fisheries, economics, botany, climate change/carbon sequestration, lands and realty, hydrology, soils, cultural (including tribal), archeology, recreation, fire and fuels management, energy, roads, grazing and wild horses, and geographic information systems.

As part of this RMP process, the BLM will analyze areas for potential designation as Areas of Critical Environmental Concern (ACEC) in accordance with 43 CFR 1610.7-2. Public nominations for potential ACECs to be considered in these revisions must be made by June 7, 2012.

Edward W. Shepard,
State Director, Oregon/Washington, Bureau of Land Management.

[FR Doc. 2012-5641 Filed 3-8-12; 8:45 am]

BILLING CODE 4310-33-P